DEPARTMENT OF COMMERCE

International Trade Administration

[A-583-827]

Static Random Access Memory Semiconductors From Taiwan: Notice of Court Decision and Suspension of Liquidation

AGENCY: Import Administration, International Trade Administration, Department of Commerce.

SUMMARY: On August 29, 2000, in Taiwan Semiconductor Industry Association, et al. v. United States, Court No. 98-05-01460, Slip Op. 00-113 (CIT), a lawsuit challenging the final affirmative determination of the U.S. International Trade Commission that less-than-fair-value imports of static random access memory semiconductors from Taiwan were causing material injury to the domestic industry, the U.S. Court of International Trade affirmed the U.S. International Trade Commission's second remand determination, which found no material injury as well as no threat of material injury, and entered a final judgment order accordingly. Consistent with the decision of the U.S. Court of Appeals for the Federal Circuit in Timken Co. v. United States, 893 F. 2d 337 (Fed. Cir. 1990), the U.S. Department of Commerce will continue to order the suspension of liquidation of the subject merchandise until there is a “conclusive” decision in this case. If the case is not appealed, or if it is affirmed on appeal, the U.S. Department of Commerce will revoke the antidumping duty order covering the subject merchandise.

EFFECTIVE DATE: November 27, 2000.

FOR FURTHER INFORMATION CONTACT: Irina Itkin or Shawn Thompson, AD/CVD Enforcement Group I, Office II, Import Administration, International Trade Administration, U.S. Department of Commerce, 14th Street and Constitution Avenue, N.W., Washington, D.C. 20230; telephone: (202) 482-0656 or (202) 482-1776, respectively.

SUPPLEMENTARY INFORMATION:

Background

The U.S. Department of Commerce (the “Department”) published notice of its amended final affirmative less-than-fair-value determination covering the subject merchandise, i.e., imports of static random access memory semiconductors from Taiwan, on April 16, 1998, Notice of Amended Final Determination and Antidumping Duty Order of Sales at Less Than Fair Value: Static Random Access Memory Semiconductors From Taiwan, 63 FR 18883 (April 16, 1998), and the U.S. International Trade Commission (the “Commission”) subsequently made its final affirmative determination that a U.S. industry was being materially injured by reason of imports of the subject merchandise. See Static Random Access Memory Semiconductors From the Republic of Korea and Taiwan, 63 FR 18443 (April 15, 1998). The Department published the amended antidumping order covering the subject merchandise on April 22, 1998. See Amended Antidumping Duty Order of Sales at Less Than Fair Value: Static Random Access Memory Semiconductors From Taiwan, 63 FR 19898.

Following publication of the antidumping duty order, the Taiwan Semiconductor Industry Association, an interested party in this case, filed a lawsuit with the U.S. Court of International Trade (“CIT”) challenging the Commission's final affirmative determination of material injury. In two subsequent decisions, the CIT remanded the case to the Commission. See Taiwan Semiconductor Industry Association, et al. v. United States, 59 F. Supp. 2d 1324, 1336 (CIT) (1999); see also Taiwan Semiconductor Industry Association, et al. v. United States, Slip Op. 00-37 (CIT) (April 11, 2000). On the second remand, the Commission determined that an industry in the United States is not being materially injured, nor is it threatened with material injury, by reason of imports of the subject merchandise. The CIT affirmed the Commission's second remand determination on August 29, 2000. See Taiwan Semiconductor Industry Association, et al. v. United States, Slip Op. 00-113 (CIT).

Suspension of Liquidation

In its decision in Timken Co. v. United States 893 F. 2d 337 (Fed. Cir. 1990) (“Timken”), the U.S. Court of Appeals for the Federal Circuit (“Federal Circuit”) held that the Department must publish notice of a decision of the CIT or the Federal Circuit which is not “in harmony” with the Department's or the Commission's determination. Publication of this notice fulfills that obligation. The Federal Circuit also held that the Department must suspend liquidation of the subject merchandise until there is a “conclusive” decision in the case. Therefore, pursuant to Timken, the Department must continue to suspend liquidation pending the expiration of the period to appeal the CIT's August 29, 2000, decision or, if that decision is appealed, pending a final decision by the Federal Circuit. Furthermore, because the respondents obtained an injunction in this litigation, the Department will revoke the antidumping duty order covering the subject merchandise effective October 1, 1997, in the event that the CIT's ruling is not appealed or the Federal Circuit issues a final decision affirming the CIT's ruling.

Dated: September 21, 2000.
Troy H. Cribb,
Acting Assistant Secretary for Import Administration.

[FR Doc. 00-24954 Filed 9-27-00; 8:45 am]

BILLING CODE 3510-DS-P